DEPARTMENT OF THE INTERIOR

Bureau of Land Management

[CA-169-1220-AL]

Notice of Public Scoping Meeting, Carrizo Plain National Monument Resource Management Plan

SUMMARY: In accordance with Federal Land Policy and Management Act of 1976 (FLPMA), the Federal Advisory Committee Act of 1972 (FACA), the National Environmental Policy Act of 1969 (NEPA), and the Code of Federal Regulations (40 CFR 1501.7, 43 CFR 1610.2), the United States Department of the Interior, Bureau of Land Management (BLM), Carrizo Plain National Monument, Monument Advisory Committee members, the California State Department of Fish and Game and the Nature Conservancy will meet as indicated below:

DATES: The meeting will be held on Tuesday, May 1, 2007 at the Bakersfield Field Office at 3801 Pegasus Drive. The location is approximately 1 mile east of Hwy. 99 off the Porterville/Sequoia exit turn-off on Hwy. 65. The meeting will begin at 5:30 p.m. and finish at 7 p.m.

SUPPLEMENTARY INFORMATION: This meeting affords the public the opportunity to become informed about the Resource Management Plan planning and provide comments to be considered in the formulation of this plan. This meeting is open to the public, who may present written or verbal comments to be considered for the development of the Resource Management Plan, and discuss other coordination opportunities. Depending on the number of persons wishing to comment, and the time available, the time allotted for individual oral comments may be limited. Individuals who plan to attend and need special assistance such as sign language interpretation or other reasonable accommodations should contact BLM as indicated below.

FOR FURTHER INFORMATION CONTACT: Bureau of Land Management, Attention: Johna Hurl, Acting Monument Manager, 3801 Pegasus Drive, Bakersfield, CA., 93308. Phone at (661) 391-6093 or e-mail at: jhurl@blm.gov

Dated: March 6, 2007.
Johna Hurl,
Acting Manager, Carrizo Plain National Monument.

[FR Doc. E7-5210 Filed 3-21-07; 8:45 am]

BILLING CODE 4310-40-P